Title 3—

The President

Proclamation 8035 of July 12, 2006

Parents' Day, 2006

By the President of the United States of America

A Proclamation

As a child's first teachers, mentors, and role models, parents shape the character of those who will help to build the future of our Nation. On Parents' Day, we pay tribute to the hard work and sacrifice of the millions of devoted parents who provide guidance, support, and unconditional love to their children.

Mothers and fathers help kindle imaginations, inspire a love of learning, nurture the formation of young minds, and give children the courage and the drive to realize their dreams. By instilling in children the difference between right and wrong, parents guide their children toward developing into successful adults and responsible citizens who lead lives of purpose. In addition, the commitment of parents to the welfare of young people strengthens families and communities throughout our great country.

My Administration supports grants and programs to promote healthy marriages and responsible fatherhood. The No Child Left Behind Act is helping us ensure that every child has the opportunity to learn, and recognizes that parental involvement is a vital part of the success of schools across America. Federal, State, and local programs, and faith-based and community groups provide additional resources to help parents as they work to raise children of conviction and character.

On this special day, we express our deep gratitude to parents for their dedication to a bright and hopeful future for their children. We also pray for parents in the military who stand up for America, and we resolve that their sacrifice will always be honored by a grateful Nation.

NOW, THEREFORE, I, GEORGE W. BUSH, President of the United States of America, by virtue of the authority vested in me by the Constitution and laws of the United States and consistent with Public Law 103-362, as amended, do hereby proclaim Sunday, July 23, 2006, as Parents' Day. I call upon citizens, private organizations, and governmental bodies at all levels to engage in activities and educational efforts that recognize, support, and honor parents, and I encourage American sons and daughters to convey their love, respect, and appreciation to their parents.

IN WITNESS WHEREOF, I have hereunto set my hand this twelfth day of July, in the year of our Lord two thousand six, and of the Independence of the United States of America the two hundred and thirty-first.

B

[FR Doc. 06-6285

Filed 7-14-06; 8:45 am]

Billing code 3195-01-P